ENVIRONMENTAL PROTECTION AGENCY

[FRL-7027-1]

Office of Research and Development; Board of Scientific Counselors Subcommittee Review of the National Risk Management Research Laboratory

AGENCY: Environmental Protection Agency (EPA).

ACTION: Notice of review.

SUMMARY: Pursuant to the Federal Advisory Committee Act, Public Law 92-463, as amended (5 U.S.C. App. 2) notification is hereby given that the Environmental Protection Agency, Office of Research and Development (ORD), Board of Scientific Counselors Subcommittee will meet to review the National Risk Managemennt Research Laboratory.

DATES: The review will be held on August 21-22, 2001. On Tuesday, August 21, 2001, the meeting will begin at 8 a.m., and will recess at 5 p.m. On Wednesday, August 22, 2001, the meeting will reconvene at 8 a.m. and adjourn at approximately 1 p.m. All times noted are Eastern Time.

ADDRESSES: The review will be held at the Andrew W. Breidenbach Environmental Research Center, 26 W. Martin Lurther King Drive, Room 120-126, Cincinnati, OH 45268.

SUPPLEMENTARY INFORMATION: Anyone desiring a draft agenda may fax their request to Shirley R. Hamilton (202) 565-2444. The meeting is open to the publlc. Any member of the public wishing to make comments at the meeting should contact Shirley Hamilton, Designated Federal Officer, U.S. Environmental Protection Agency, Board of Scientific Counselors, Office of Research and Development (8701R), 1200 Pennsylvania Avenue, NW., Washington, DC 20460 by telephone at (202) 564-6853. In general, each individual making an oral presentation will be limited to three minutes.

FOR FURTHER INFORMATION CONTACT: Shirley R. Hamilton, Designated Federal Office, U.S. Environmental Protection Agency, Office of Research and Development (8701R), 1200 Pennsylvania Avenue, NW., Washington, DC 20460, (202) 564-6853.

Dated: July 31, 2001.
John C. Puzak,
Deputy Director, National Center for Environmental Research.

[FR Doc. 01-20214 Filed 8-10-01; 8:45 am]

BILLING CODE 6560-50-M